DEPARTMENT OF ENERGY

Federal Energy Regulatory Commission

[Docket No. EL05-59-000]

MidAmerican Energy Company; Notice of Institution of Proceeding and Refund Effective Date

June 2, 2005.

On June 1, 2005, the Commission issued an order that instituted a proceeding in Docket No. EL05-59-000, pursuant to section 206 of the Federal Power Act (FPA), 16 U.S.C. § 824e, concerning the justness and reasonableness of MidAmerican Energy Company's market-based rates. MidAmerican Energy Company, 111 FERC ¶ 61,320 (2005).

The refund effective date in Docket No. EL05-59-000, established pursuant to section 206(b) of the FPA, will be 60 days from the date of publication of this notice in the Federal Register.

Linda Mitry,
Deputy Secretary.

[FR Doc. E5-2922 Filed 6-7-05; 8:45 am]

BILLING CODE 6717-01-P